SMALL BUSINESS ADMINISTRATION

[Disaster Declaration #20973; LOUISIANA Disaster Number LA-20009 Declaration of Economic Injury]

Administrative Declaration of an Economic Injury Disaster for the State of Louisiana

AGENCY: U.S. Small Business Administration.

ACTION: Notice.

SUMMARY: This is a notice of an Economic Injury Disaster Loan (EIDL) declaration for the State of Louisiana dated February 5, 2025.

Incident: January 2025 Winter Storm.

DATES: Issued on February 5, 2025.

Incident Period: January 21, 2025, through January 24, 2025.

Economic Injury (EIDL) Loan Application Deadline Date: November 25, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's EIDL declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Parishes: Ascension, Calcasieu, East Baton Rouge, Lafayette, Plaquemines, St. Charles, Tangipahoa, Terrebonne.

Contiguous Parishes/Counties:

Louisiana: Acadia, Assumption, Beauregard, Cameron, East Feliciana, Iberia, Iberville, Jefferson, Jefferson Davis, Lafourche, Livingston, Orleans, St. Bernard, St. Helena, St. James, St. John The Baptist, St. Landry, St. Martin, St. Mary, St. Tammany, Vermilion, Washington, West Baton Rouge.

Mississippi: Amite, Pike.

Texas: Newton, Orange.

The Interest Rates are:

| Percent
Business and Small Agricultural Cooperatives without Credit Available Elsewhere | 4.000
Non-Profit Organizations without Credit Available Elsewhere | 3.625

The number assigned to this disaster for economic injury is 209730.

The States which received an EIDL Declaration are Louisiana, Mississippi, Texas.

(Catalog of Federal Domestic Assistance Number 59008)

Everett Woodel,
Acting Administrator.

[FR Doc. 2025-02447 Filed 2-10-25; 8:45 am]

BILLING CODE 8026-09-P